DEPARTMENT OF DEFENSE

Department of the Army, Corps of Engineers

Availability of the Draft Supplement to the Final Environmental Impact Statement for the Authorized Red River Chloride Project Wichita River Only Portion, Oklahoma and Texas

AGENCY: Department of the Army, U.S. Army Corps of Engineers, DOD.

ACTION: Notice of Availability.

SUMMARY: Notice is made of the availability of a Draft Supplement to the Final Environmental Impact Statement (DSFEIS) for the Authorized Red River Chloride Control Project Wichita River Only Portion, Oklahoma and Texas prepared by the Tulsa District of the U.S. Army Corps of Engineers (USACE). The purpose of the project is to investigate methods to reduce the natural occurring levels of chlorides in the Wichita River Basin in Texas.

DATES: The DSFEIS will be available for public review when this announcement is published. The review period of the document will be until September 11, 2002. To request a copy of the supplement, please call (918) 669-4396.

FOR FURTHER INFORMATION CONTACT: For further information regarding DSFEIS, please contact Stephen L. Nolen, Chief, Environmental Analysis and Compliance Branch, U.S Army Corps of Engineers, ATTN: CESWT-PE-E, 1645 South 101st East Avenue, Tulsa, OK 74128-4629.

SUPPLEMENTARY INFORMATION: In 1957, the U.S. Public Health Service initiated a study to locate natural chloride seeps and springs and to determine the contribution of these chloride sources to the Red River, to which the Wichita River is a tributary. In 1959, the USACE recommended measures to control identified natural chloride sources. Congress authorized plans for chloride control in 1966. This project was known as the Red River Chloride Control Project (RRCCP). A Final Environmental Statement (FES) for the RRCCP dated July 1976, of which the Wichita River was a portion, was filed with the Environmental Protection Agency on May 18, 1977, and published in the Federal Register on May 27, 1977. Since the 1976 FES, proposed project outputs have changed. Target chloride concentrations of 250 mg/l or less 94% of the time at Lake Texoma and 98% of the time at Lake Kemp were originally established for the proposed project. However, project modifications described in the supplement would affect design effectiveness of the plan evaluated in the 1976 FES. As such, an environmental reevaluation was approved in 1997, and the NEPA scoping process was initiated in 1998. The proposed plan is expected to meet the Texas Natural Resources Conservation Commission (TNRCC) secondary drinking water standard of 300mg/l chloride 40% of the time at Lake Kemp.

Effectiveness of constructed portions of the project were evaluated by a Congressionally authorized panel, in accordance with Public Law 99-662, to assess the improvements in water quality assumed in the economic reanalysis of the proposed project. The panel submitted a favorable report to the Federal Public Works Committees of the House and Senate in August 1988 indicating that Area VIII was performing as designed. As noted above, design changes have been developed for the proposed project that would lessen impacts on stream flow, water quality, and chloride removal compared to the proposed project evaluated in the 1976 FES. In addition, potential direct and indirect impacts have been identified that were not addressed in the FES.

During the NEPA process for the DSFEIS, several issues were identified as concerns by the public and commenting natural resource agencies. Major issues addressed in this document include: (1) Hydrological biological, and water quality issues concerning fish, aquatic invertebrates, aquatic macrophytes, and the wetland/riparian ecosystem of the Wichita River, Lake Kemp, and Red River above Lake Texoma to the confluences of the Wichita River; (2) Lakes Kemp, Diversion, and Texoma components, including chloride/turbidity relationships, chloride/fish reproduction relationships, chloride/plankton community issues, chloride/nutrient dynamics issues, and impacts on recreational values; (3) water quality and quantity impacts on Dundee Fish Hatchery below Lake Diversion; (4) selenium (Se) concentrations and impact on biota; (5) man-made brines and associated reduction; (6) Section 401 water quality issues; (7) mitigation as it relates to habitat losses from construction of proposed project components; (8) Federally-listed threatened and endangered species; and (9) unquantifiable/undefined impacts.

Changes in the project base condition have also occurred since the 1976 FES. Due to growing concern in the Wichita River Basin about the availability of water and its effect on economic growth and development, the Red River Authority of Texas (RRA) in cooperation with the Texas State Soil and Water Conservation Board (TSSWCB) initiated a study to determine the feasibility of implementing a brush control and management program to increase water yield. The goal is to restore large areas of brush to native grasses, but leave brush buffers and habitat corridors composed of mesquite and juniper. The results of the study revealed that implementation of the proposed brush control program may provide a net increase in watershed yield at Lake Kemp. The brush control program has currently been included in Texas Senate Bill 1 and the Region B Water Plan. The supplement has assumed a brush management factor of 50% implementation as its future condition without chloride control.

Fourteen alternatives were developed by the USACE for achieving lower concentrations of chlorides in the Wichita River. The objective of the 14 USACE action alternatives was to improve water quality in the Wichita River to a point where it may be economically useful for municipal, industrial, and agricultural water supply. The U.S. Fish and Wildlife Service (USFWS) and the Texas Parks and Wildlife Department (TPWD) developed an additional twelve (12) alternatives that were also considered by the USACE. The objectives of these alternatives were to lower chloride control impacts by reducing brines pumped to Truscott Brine Lake and eliminating potential selenium impacts, as well as replacing stream habitat and lessening the impact of zero flow days on fish populations.

From all the developed alternatives, USACE Alternative 7a was selected as having the greatest net NED benefits. However, concerns regarding this alternative have been raised by the USFWS and TPWD. Due to higher economic, technical, and regulatory viability, Alternative 7a best serves the purpose and need for the proposed action and is the proposed plan.

The DSFEIS has been coordinated and approved by offices and directorates affected by or interested in the subject matter, including the Office of Counsel and Executive Offices.

Stephen R. Zeltner,
Lieutenant Colonel, U.S. Army, Acting District Engineer.

[FR Doc. 02-15719 Filed 6-20-02; 8:45 am]

BILLING CODE 3710-39-M